DEPARTMENT OF LABOR

Employment and Training Administration

Notice of Determinations Regarding Eligibility To Apply for Worker Adjustment Assistance and Alternative Trade Adjustment Assistance

In accordance with Section 223 of the Trade Act of 1974, as amended (19 U.S.C. 2273) the Department of Labor herein presents summaries of determinations regarding eligibility to apply for trade adjustment assistance for workers (TA-W) number and alternative trade adjustment assistance (ATAA) by (TA-W) number issued during the period of February 2 through February 6, 2009.

In order for an affirmative determination to be made for workers of a primary firm and a certification issued regarding eligibility to apply for worker adjustment assistance, each of the group eligibility requirements of Section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign country of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made for secondarily affected workers of a firm and a certification issued regarding eligibility to apply for worker adjustment assistance, each of the group eligibility requirements of Section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss of business by the workers' firm with the firm (or subdivision) described in paragraph (2) contributed importantly to the workers' separation or threat of separation.

In order for the Division of Trade Adjustment Assistance to issue a certification of eligibility to apply for Alternative Trade Adjustment Assistance (ATAA) for older workers, the group eligibility requirements of Section 246(a)(3)(A)(ii) of the Trade Act must be met.

1. Whether a significant number of workers in the workers' firm are 50 years of age or older.

2. Whether the workers in the workers' firm possess skills that are not easily transferable.

3. The competitive conditions within the workers' industry (i.e., conditions within the industry are adverse).

Affirmative Determinations for Worker Adjustment Assistance

The following certifications have been issued. The date following the company name and location of each determination references the impact date for all workers of such determination.

The following certifications have been issued. The requirements of Section 222(a)(2)(A) (increased imports) of the Trade Act have been met.

None.

The following certifications have been issued. The requirements of Section 222(a)(2)(B) (shift in production) of the Trade Act have been met.

None.

The following certifications have been issued. The requirements of Section 222(b) (supplier to a firm whose workers are certified eligible to apply for TAA) of the Trade Act have been met.

None.

The following certifications have been issued. The requirements of Section 222(b) (downstream producer for a firm whose workers are certified eligible to apply for TAA based on increased imports from or a shift in production to Mexico or Canada) of the Trade Act have been met.

None.

Affirmative Determinations for Worker Adjustment Assistance and Alternative Trade Adjustment Assistance

The following certifications have been issued. The date following the company name and location of each determination references the impact date for all workers of such determination.

The following certifications have been issued. The requirements of Section 222(a)(2)(A) (increased imports) and Section 246(a)(3)(A)(ii) of the Trade Act have been met.

TA-W-64,751; Leon Max, Inc., Pasadena, CA: December 16, 2007.

TA-W-64,842; American and Efird, Inc., Nelson Plant 2, Mount Holly, NC: January 8, 2008.

TA-W-64,882; Amphenol TCS Microtech and Triton Staffing, Nashua, NH: January 5, 2008.

TA-W-65,054; GE Security Supply Chain Tualatin Div. of GE Security, Inc., Tualatin, OR: January 29, 2008.

TA-W-65,055; National Copper Products, Inc. National Tube Holding, Dowagiac, MI: January 27, 2008.

TA-W-65,079; Bowser Manufacturing Co., Inc., Montoursville, PA: January 28, 2008.

TA-W-64,198; Cranston Print Works Company Webster Division, Webster, MA: August 23, 2008.

TA-W-64,496; Hatteras Yachts Brunswick Corporation, New Bern, NC: November 20, 2007.

TA-W-64,626; Moldex Corporation, Meadville, PA: December 5, 2007.

TA-W-64,678; Washers, Inc., Specialty Processing, dba Alpha Stamping, Livonia, MI: December 11, 2007.

TA-W-64,800; Flex Y Plan Industries, Inc., Fairview, PA: December 30, 2007.

TA-W-64,953A; Bloomsburg Mills, Inc., Monroe Div., Staffing Solutions, Monroe, NC: January 6, 2009.

TA-W-64,953; Bloomsburg Mills, Inc., Bloomsburg Div., Staffing Solutions, Bloomsburg, PA: January 6, 2009.

TA-W-64,506; International Paper Company Weyerhaeuser Co, Containerboard Div., Valliant, OK: November 14, 2007.

TA-W-64,786; Schott Gemtron, Vincennes, IN: December 22, 2007.

TA-W-64,619; Chrysler LLC, Twinsburg Stamping Plant, Twinsburg, OH: December 2, 2007.

TA-W-64,736; True Textiles, Inc., Formerly Knows As Interface Fabric, Guilford, ME: December 15, 2007.

TA-W-64,779; Diversified Contract Services Line Logistics, Fenton, MO: December 10, 2007.

TA-W-65,040; New N&W Sewing Company, San Francisco, CA: January 16, 2008.

The following certifications have been issued. The requirements of Section 222(a)(2)(B) (shift in production) and Section 246(a)(3)(A)(ii) of the Trade Act have been met.

TA-W-64,468; MRV Communications Boston Division, Littleton, MA: November 17, 2007.

TA-W-64,534; Siemens Energy and Automation, Inc., Residential Products Division, El Paso, TX: November 19, 2007.

TA-W-64,554; Winchester Electronics Corporation Corporate Office, leased workers Talent Tree and Outsource, Wallingford, CT: November 26, 2007.

TA-W-64,587; Allen Edmonds Shoe Company Allen Edmonds, Port Washington, WI: December 3, 2009.

TA-W-64,628; Kelsey-Hayes Company TRW Automotive Holdings Corp, Livonia, MI: December 8, 2007.

TA-W-64,777; Adgraphics USA Taylor Corporation, Hugo, MN: December 23, 2007.

TA-W-64,829; Cooper Tire and Rubber Company, Albany, GA: January 5, 2008.

TA-W-64,830; Philips Lumileds Lighting Company Wafer Fabrication Div., San Jose, CA: January 7, 2008.

TA-W-64,845; Reach Road Manufacturing Corp., Williamsport, PA: March 15, 2008.

TA-W-64,883; Celestica Adecco, Aerotek, Purchasing Professionals, Arden Hills, MN: January 13, 2008.

TA-W-64,884; White Rodgers Emerson, Batesville, AR: February 9, 2009.

TA-W-64,931; INVISTA S.A.R.L. Mundy Maintenance, Services and Operations Clearwater Loaders, Seaford, DE: January 13, 2008.

TA-W-64,938; Sonoco Products Company, Rockton, IL: January 14, 2008.

TA-W-65,024; Printronix, including Temploy and Select Staffing, Irvine, CA: January 27, 2008.

TA-W-65,117; Sonoco CIN-Made Rigid Paper and Plastics, Cincinnati, OH: January 21, 2008.

TA-W-64,740; LSP Products Group NCH Corp., Carson City, NV: December 18, 2007.

TA-W-64,750; Bush Industries, Inc. Express and Labor Ready, Erie, PA: January 26, 2009.

TA-W-64,778; Hamilton Sundstrand Aerospace Propulsion Systems Div., Windsor Locks, CT: December 23, 2007.

TA-W-64,803; Fort Worth Star Telegram AD Design Division, McClatchy Company, Fort Worth, TX: December 26, 2007.

TA-W-64,813; Gerber Scientific, Inc., Tolland, CT: January 5, 2008.

TA-W-64,857; Huhtamaki Flexibles, Inc., Malvern, PA: January 9, 2008.

TA-W-64,897; Sanford Holland Employment, Lewisburg, TN: January 15, 2008.

TA-W-64,936; Casco Products Sequa Carlyle Group Division, Marks, MS: January 20, 2008.

TA-W-64,941; Southworth International Group Southworth Products, Welders & Assemblers, Manila, AR: January 20, 2008.

TA-W-64,943; Versa-Matic Pump Inc. Robert Half, Account Temps, Callos, Carol Harris etc, Export, PA: January 16, 2008.

TA-W-64,954; ZF Boge Elastametall, LLC Rubber-Metal Technology Div., Trillium Staffing, Paris, IL: January 21, 2008.

TA-W-64,976; General Building Corporation, Aerotek, Action Temps, Paramount Staffing, Addison, IL: January 22, 2008.

TA-W-65,026; ADO Corporation, Spartanburg, SC: January 26, 2008.

The following certifications have been issued. The requirements of Section 222(b) (supplier to a firm whose workers are certified eligible to apply for TAA) and Section 246(a)(3)(A)(ii) of the Trade Act have been met.

TA-W-64,564; Brose Chicago, People Link, Chicago, IL: November 7, 2007.

TA-W-64,696; Emcon Technologies Dexter, MO: December 15, 2007.

TA-W-64,715A; Cadence Innovation, LLC Metrology Location Including Michigan Staffing, Modern Professional and TAC Transportation, Chesterfield Township, MI: December 15, 2007.

TA-W-64,715B; Cadence Innovation, LLC, Chesterfield Plant Including Michigan Staffing, Modern Professional and TAC Transportation, Chesterfield Township, MI: December 15, 2007.

TA-W-64,715C; Cadence Innovation, LLC, Information Systems Technology, Including Michigan Staffing, Modern Professional and TAC Transportation, Chesterfield Township, MI: December 15, 2007.

TA-W-64,715D; Cadence Innovation, LLC, Hillsdale Plant and Including Michigan Staffing, Modern Professional and TAC Transportation, Hillsdale, MI: December 15, 2007.

TA-W-64,715E; Cadence Innovation, LLC, Hartford Plant and Including Michigan Staffing, Modern Professional and TAC Transportation, Hartford City, MI: December 15, 2007.

TA-W-64,715F; Cadence Innovation, LLC, 17400 Malyn Street, Including Michigan Staffing, Modern Professional and TAC Transportation, Fraser, MI: December 15, 2007.

TA-W-64,715G; Cadence Innovation, LLC, 17350 Malyn Street, Including Michigan Staffing, Modern Professional and TAC Transportation, Fraser, MI: December 15, 2007.

TA-W-64,715H; Cadence Innovation, 17300 Malyn Street, Including Michigan Staffing, Modern Professional and TAC Transportation, Fraser, MI: December 15, 2007.

TA-W-64,715I; Cadence Innovation, LLC, Processing Center, Including Michigan Staffing, Modern Professional and TAC Transportation, Fraser, MI: December 15, 2007.

TA-W-64,715J; Cadence Innovation, LLC, Commerce Location, Including Michigan Staffing, Modern Professional and TAC Transportation, Fraser, MI: December 15, 2007.

TA-W-64,715; Cadence Innovation, LLC, Groesbeck Plant, Including Michigan Staffing, Modern Professional and TAC Transportation, Clinton Township, MI: December 15, 2007.

TA-W-64,761A; Swift Spinning, Inc., Blackstreet Capital Partners, CYD Plant, Columbus, GA: December 3, 2007.

TA-W-64,761; Swift Spinning, Inc., Blackstreet Capital Partners, East Columbus, Columbus, GA: December 3, 2007.

TA-W-64,904A; R.L. Stowe Mills, Inc., Helms Plant, Belmont, NC: January 13, 2008.

TA-W-64,904B; R.L. Stowe Mills, Inc., Chattanooga Plant, Chattanooga, TN: January 13, 2008.

TA-W-64,904; R.L. Stowe Mills, Inc., National Plant, Belmont, NC: January 13, 2008.

TA-W-64,920; Heritage Products, Inc., Crawfordsville, IN: January 15, 2008.

TA-W-65,042; Craftwood, Inc., High Point, NC: January 29, 2008.

TA-W-65,053; Tenneco, Inc., NAOERC Division, Hartwell, GA: January 29, 2008.

The following certifications have been issued. The requirements of Section 222(b) (downstream producer for a firm whose workers are certified eligible to apply for TAA based on increased imports from or a shift in production to Mexico or Canada) and Section 246(a)(3)(A)(ii) of the Trade Act have been met.

None.

Negative Determinations for Alternative Trade Adjustment Assistance

In the following cases, it has been determined that the requirements of 246(a)(3)(A)(ii) have not been met for the reasons specified.

The Department has determined that criterion (1) of Section 246 has not been met. The firm does not have a significant number of workers 50 years of age or older.

None.

The Department has determined that criterion (2) of Section 246 has not been met. Workers at the firm possess skills that are easily transferable.

None.

The Department has determined that criterion (3) of Section 246 has not been met. Competition conditions within the workers' industry are not adverse.

None.

Negative Determinations for Worker Adjustment Assistance and Alternative Trade Adjustment Assistance

In the following cases, the investigation revealed that the eligibility criteria for worker adjustment assistance have not been met for the reasons specified.

Because the workers of the firm are not eligible to apply for TAA, the workers cannot be certified eligible for ATAA.

The investigation revealed that criteria (a)(2)(A)(I.A.) and (a)(2)(B)(II.A.) (employment decline) have not been met.

TA-W-64,636; Future Electronics Corporation, Golden, CO.

The investigation revealed that criteria (a)(2)(A)(I.B.) (Sales or production, or both, did not decline) and (a)(2)(B)(II.B.) (shift in production to a foreign country) have not been met.

TA-W-64,795; Appleton Papers, Inc., Appleton, WI.

The investigation revealed that criteria (a)(2)(A)(I.C.) (increased imports) and (a)(2)(B)(II.B.) (shift in production to a foreign country) have not been met.

TA-W-64,360; Mead Westvaco Corporation, Consumer and Office Products Division, Enfield, CT.

TA-W-64,462; Foamex, LP, Corry, PA.

TA-W-64,492; GTP Greenville, Inc., Greenville, SC.

TA-W-64,525; Stamford Industrial Group, dba Concord Steele, Warren, OH.

TA-W-64,548; Stuart Flooring Corporation, Stuart, VA.

TA-W-64,658; Fleetwood Motor Homes of Pennsylvania, Inc., Fleetwood Enterprises, Paxinos, PA.

TA-W-64,772A; East Tennessee Zinc Company, Coy Mine, Jefferson City, TN.

TA-W-64,772B; East Tennessee Zinc Company, Immel Mine, Mascot, TN.

TA-W-64,772; East Tennessee Zinc Company, Young Mine and Corp. Office, Strawberry Plains, TN.

TA-W-64,810; Legere Group, Ltd., Avon, CT.

TA-W-64,858; Wabash Alloys, LLC, Aleris International, Tipton, IN.

TA-W-64,947; Philip Morris USA, Cabarrus Manufacturing Plant, Altria Group, Concord, NC.

TA-W-64,220; Oddi Atlantic LLC, Princess Ann, MD.

The workers' firm does not produce an article as required for certification under Section 222 of the Trade Act of 1974.

TA-W-64,591; Gensym Corporation, Versata Enterprises, Inc., Burlington, MA.

TA-W-64,687; Delaware Valley Financial Services, Allianz Life Insurance Company of North America, Berwyn, PA.

TA-W-64,703; 5R Processors, Ltd, Ladysmith, WI.

TA-W-64,785; Wallenius Wilhelmsen Logistics America, Woodcliff Lake, NJ.

TA-W-64,809; S & B Industry Technologies, L.P., Fort Worth, TX.

TA-W-64,822; Pulaski Furniture Corporation, A Division of Home Meridian International, Pulaski, VA.

TA-W-64,893; Dreamer Design, Yakima, WA.

TA-W-64,940; Long Equipment Company, Division of Farmtrac North America, LLC, Tarboro, ND.

TA-W-64,995; Alleghany Warehouse Company, Richmond, VA.

TA-W-64,998; Oce Business Services, Records Compliance and Legal Solutions, Bountiful, UT.

TA-W-64,999; Twin Hills, Inc., Hickory, KY.

TA-W-65,011; Chase Auto Finance Corporation, Customer Services, JP Morgan Chase and Co., Garden City, NY.

The investigation revealed that criteria of Section 222(b)(2) has not been met. The workers' firm (or subdivision) is not a supplier to or a downstream producer for a firm whose workers were certified eligible to apply for TAA.

TA-W-64,384; Timken Company, Dahlonega, GA.

I hereby certify that the aforementioned determinations were issued during the period of February 2 through February 6, 2009. Copies of these determinations are available for inspection in Room N-5428, U.S. Department of Labor, 200 Constitution Avenue, NW., Washington, DC 20210 during normal business hours or will be mailed to persons who write to the above address.

Dated: February 23, 2009.
Linda G. Poole,
Certifying Officer, Division of Trade Adjustment Assistance.

[FR Doc. E9-4388 Filed 3-2-09; 8:45 am]

BILLING CODE 4510-FN-P